DEPARTMENT OF ENERGY

Federal Energy Regulatory Commission

[Docket No. PR04-6-001]

Cranberry Pipeline Corporation; Notice of Offer of Settlement

December 22, 2004.

Take notice that on December 17, 2004, Cranberry Pipeline Corporation (Cranberry) tendered for filing an Offer of Settlement (settlement) in the above-referenced proceeding. The proposed settlement establishes a system-wide transportation rate of 68.17 cents/Dth pursuant to NGPA section 311(a)(2). The proposed settlement also makes certain revisions to Cranberry's Statement of Operating Conditions.

Initial comments on Cranberry's filing are due on or before January 6, 2005, and reply comments are due on or before January 17, 2005.

Linda Mitry,
Deputy Secretary.

[FR Doc. E4-3889 Filed 12-29-04; 8:45 am]

BILLING CODE 6717-01-P